DEPARTMENT OF JUSTICE

Notice of Lodging of Proposed Consent Decree Under the Clean Air Act

On September 28, 2012, the Department of Justice lodged a proposed Consent Decree with the United States District Court for the District of Colorado in the lawsuit entitled United States v. Elm Ridge Exploration Company LLC, Civil Action No. 12-cv-02584.

The Consent Decree resolves alleged violations of the Clean Air Act's hazardous air pollutant control program at 42 U.S.C. 7412, and its Title V federal operating permits program at 42 U.S.C. 7661 at Elm Ridge's Ignacio Gas Treating Plant in La Plata County, Colorado, within the exterior boundaries of the Southern Ute Indian Reservation. The Consent Decree requires: (1) Payment of a civil penalty of $207,150; (2) performance of a $150,000 SEP to replace 50 residential wood stoves on the Reservation with cleaner wood or pellet stoves; (3) $67,850 paid to EPA's Title V fee fund to recover unpaid Title V permit fees; (4) mitigation of past violations by replacing four engines not presently covered by the HAP regulations with newer, cleaner engines at a cost of approximately $1,050,000; (5) injunctive provisions to ensure forward compliance with the Act's HAP control program on all eight engines at the Facility; (6) replacement of existing instrument gas systems with instrument air systems at a cost of $125,000; and (7) a requirement that Elm Ridge submit an updated Title V permit application to the Southern Ute Indian Tribe, which has recently obtained delegated Title V authority.

The publication of this notice opens a period for public comment on the Consent Decree. Comments should be addressed to the Assistant Attorney General, Environment and Natural Resources Division, and should refer to United States v. Elm Ridge Exploration Company LLC, D.J. Ref. No. 90-5-2-1-10362. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.usdoj.gov/enrd/Consent_Decrees.html. We will provide a paper copy of the Consent Decree upon written request and payment of reproduction costs. Please mail your request and payment to:

Consent Decree Library, U.S. DOJ—ENRD, P.O. Box 7611, Washington, DC 20044-7611.

Please enclose a check or money order for $10.25 (25 cents per page reproduction cost) payable to the United States Treasury.

Robert Brook,
Assistant Section Chief, Environmental Enforcement Section, Environment and Natural Resources Division.

[FR Doc. 2012-24511 Filed 10-3-12; 8:45 am]

BILLING CODE 4410-15-P